FEDERAL EMERGENCY MANAGEMENT AGENCY

Agency Information Collection Activities: Proposed Collection; Comment Request

ACTION: Notice and request for comments.

SUMMARY: The Federal Emergency Management Agency, as part of its continuing effort to reduce paperwork and respondent burden, invites the general public and other Federal agencies to take this opportunity to comment on proposed information collection. In accordance with the Paperwork Reduction Act of 1995 (U.S.C. 3506(c)(2)(A)), this notice seeks comments concerning a voluntary customer satisfaction survey of individuals, Federal, State, and Local officials who receive products and services from the Chemical Stockpile Emergency Preparedness Program (CSEPP).

SUPPLEMENTARY INFORMATION: In order to carry out the principle of performance-based management mandated by the Government Performance and Results Act of 1993 (GPRA), CSEPP will measure and benchmark five national performance indicators as stated in the program's strategic plan. Data collected from this survey will be used to set performance goals and establish a quantitative baseline to monitor program effectiveness and customer satisfaction.

Collection of Information

Title: CSEPP Program Evaluation and Customer Satisfaction Baseline Survey.

Type of Information Collection: New Collection.

Abstract: Consistent with a performance-based management approach required by GPRA, CSEPP will collect data from federal, state, and local governments to measure program effectiveness and establish a quantitative baseline for customer satisfaction with existing products and services. Findings from the data will be used to set performance goals and customer service standards, while providing benchmarks for program monitoring and evaluation.

Affected Public: Federal, State, and Local Governments.

Estimated Total Annual Burden Hours: 420 Hours.

| Number of respondents* (A) | Frequency of response (B) | Hours per response (C) | Annual burden hours (A x B x C)
Surveys, pre-survey and pilot testing:
FY 2001 | 185 | 1 | .50 | ** 140
FY 2002 | 185 | 1 | .50 | ** 140
FY 2003 | 185 | 1 | .50 | ** 140
Total | 555 |  | .50 | 420
* External respondents only. * *Includes 47 hours of pre survey activities.

Estimated Cost: $26,860.00 ($25,900.00, Written surveys to include postage, printing, supplies, personnel, contractor support; $960.00, Phone follow-ups to include phone charges, training, and personnel; $0.00. Computer surveys to include software).

Comments: Written comments are solicited to (a) evaluate whether the proposed data collection is necessary for the proper performance of the agency, including whether the information shall have practical utility; (b) evaluate the accuracy of the agency's estimate of the burden of the proposed collection of information, including the validity of the methodology and assumptions used: (c) enhance the quality, utility, and clarity of the information to be collected; and (d) minimize the burden of the collection of information on those who are to respond, including through the use of appropriate automated, electronic, mechanical, or other technological collection techniques or other forms of information technology, e.g., permitting electronic submission of responses. Comments should be received within 60 days of the date of this notice.

ADDRESSES: Interested persons should submit written comments to Muriel Anderson, Chief, Records Management Branch, Federal Emergency Management Agency, 500 C Street, SW, Room 316, Washington, DC 20472.

FOR FURTHER INFORMATION CONTACT: Sylvia U. Correa, Surveys Manager, Federal Emergency Management Agency, (202) 646-4247 or email sylvia.correa@fema.gov. For copies of the proposed collection of information, contact Muriel Anderson at (202) 646-2625 or by facsimile number (202) 646-3524 or by email muriel.anderson@fema.gov.

Dated: March 9, 2001.
Reginald Trujillo,
Director, Program Services Division, Operations Support Directorate.

[FR Doc. 01-6515 Filed 3-15-01; 8:45 am]

BILLING CODE 6718-01-P